DEPARTMENT OF TRANSPORTATION

Federal Highway Administration

Notice of Final Federal Agency Actions on Proposed Highway in Utah

AGENCY: Federal Highway Administration (FHWA), Department of Transportation, Utah Department of Transportation (UDOT).

ACTION: Notice of limitations on claims for judicial review of actions by UDOT and other Federal agencies.

SUMMARY: The FHWA, on behalf of UDOT, is issuing this notice to announce actions taken by UDOT that are final Federal agency actions. The final agency actions relate to a proposed highway project, improvements to the Parley's Interchange at Interstate 80 (I-80) and Interstate 215 (I-215) in Salt Lake County, State of Utah. Those actions grant licenses, permits and/or approvals for the project. The UDOT's Record of Decision provides details on the Selected Alternative for the proposed improvements.

DATES: By this notice, FHWA, on behalf of UDOT, is advising the public of final agency actions subject to 23 U.S.C. 139(l)(1). A claim seeking judicial review of the Federal agency actions on the highway project will be barred unless the claim is filed on or before February 16, 2021. If the Federal law that authorizes judicial review of a claim provides a time period of less than 150 days for filing such claim, then that shorter time period still applies.

FOR FURTHER INFORMATION CONTACT: Naomi Kisen, Environmental Program Manager, UDOT Environmental Services, P.O. Box 143600, Salt Lake City, UT 84114; (801)-965-4000; email:nkisen@utah.gov. UDOT's normal business hours are 8 a.m. to 5 p.m. (Mountain Time Zone), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. Actions taken by UDOT on FHWA's behalf pursuant to 23 U.S.C. 327 constitute Federal agency actions for purposes of Federal law. Notice is hereby given that UDOT has taken final agency actions subject to 23 U.S.C. 139(l)(1) by issuing licenses, permits, and approvals for the Parley's Interchange I-80/I-215 Eastside project in the State of Utah.

On August 11, 2020, UDOT approved a Final Environmental Impact Statement (EIS) and Record of Decision (ROD) for Parley's Interchange I-80/I-215 Eastside, Salt Lake County, Utah, Project No. S-R299(260). In the ROD, UDOT approved Alternative B (the Selected Alternative) as described in the EIS. The approved project consists of highway improvements to meet projected traffic demands and to improve public safety at the Parley's Interchange (I-80/I-215 eastside interchange) in Salt Lake County, Utah. The primary purposes of the project are to improve the level of service (LOS) of the interchange to LOS D or better in the 2050 design year; to improve overall mobility by reducing travel delays through the interchange as compared to no-action conditions; and to improve safety by addressing obsolete design elements and alleviating traffic backup into the main and auxiliary lanes of I-80 and I-215.

The highway improvements approved in the ROD generally consist of the removal, replacement and/or modification of ramps and the addition or modification of travel lanes within an interchange area including and bounded by the I-80/2300 East interchange on the west, the I-215/3300 South interchange on the south, the Parley's Drive/Wilshire Drive and the Foothill Drive/Stringham Avenue intersections on the north, and the I-80 westbound-to-I-215 southbound ramp near the mouth of Parley's Canyon on the east. The project is included in Needs Phase 1/Financially Constrained Phase 2 (Project ID R-S-209) of the Wasatch Front Regional Council's 2019-2050 Regional Transportation Plan.

The actions by UDOT, and the laws under which such actions were taken, are described in the EIS and the ROD and other documents in the UDOT project records. The EIS and ROD are available for review by contacting UDOT at the address provided above. In addition, these documents can be viewed and downloaded from the project website at www.parleyseis.com.

This notice applies to the EIS, the ROD, the NHPA Section 106 review, the Endangered Species Act determination, the Section 4(f) determination, the Section 6(f) Land and Water Conservation Act determination, the noise review and noise abatement determination, the air quality conformity determinations, and all other UDOT and Federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Section 6(f) of the Land and Water Conservation Fund Act [54 U.S.C. 200305]; Landscaping and Scenic Enhancement (Wildflowers) [23 U.S.C. 319].

4. Wildlife: The Endangered Species Act [16 U.S.C. 1531-1544 and Section 1536], Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(M), 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; [23 U.S.C. 109(h) & (i)].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (l)(1).

Issued on: September 10, 2020.
Ivan Marrero,
Division Administrator, Federal Highway Administration, Salt Lake City, Utah.

[FR Doc. 2020-20548 Filed 9-16-20; 8:45 am]

BILLING CODE 4910-RY-P